NUCLEAR REGULATORY COMMISSION

[Docket Nos. 50-498 and 50-499]

STP Nuclear Operating Company; Notice of Withdrawal of Application for Amendments to Facility Operating Licenses

The U.S. Nuclear Regulatory Commission (NRC/the Commission) has granted the request of STP Nuclear Operating Company (the licensee) to withdraw its August 2, 2004, application for the proposed amendments to Facility Operating License Nos. NPF-76 and NPF-80, for the South Texas Project (STP), Units 1 and 2, respectively, located in Matagorda County, Texas.

The purpose of the licensee's request for amendments was to allow implementation of a risk-informed process for determining the allowed outage times for STP's Technical Specifications.

The Commission had previously issued a Notice of Consideration of Issuance of Amendments published in the Federal Register on August 31, 2004 (69 FR 53112). However, by letter dated July 27, 2006, the NRC informed the licensee that the NRC would consider the proposed application for amendments to be withdrawn unless the licensee notified the NRC, by August 9, 2006, that our understanding was incorrect. Thus, the August 2, 2004, application for amendments is considered to be withdrawn by the licensee.

For further details with respect to this action, see the application for amendments dated August 2, 2004, and the NRC staff's letter dated July 27, 2006. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737, or by e-mail to pdr@nrc.gov.

Dated at Rockville, Maryland, this 10th day of August 2006.
For the Nuclear Regulatory Commission.
Mohan C. Thadani,
Senior Project Manager, Plant Licensing Branch IV, Division of Operating Reactor Licensing, Office of Nuclear Reactor Regulation.

[FR Doc. E6-13631 Filed 8-17-06; 8:45 am]

BILLING CODE 7590-01-P